NUCLEAR REGULATORY COMMISSION

Sunshine Act; Meetings

AGENCY HOLDING THE MEETING: Nuclear Regulatory Commission.

DATE: Weeks of October 27, November 3, 10, 17, 24, December 1, 2003.

PLACE: Commissioners' Conference Room, 11555 Rockville Pike, Rockville, Maryland.

STATUS: Public and Closed.

MATTERS TO BE CONSIDERED:

Week of October 27, 2003

Wednesday, October 29, 2003

9:30 a.m.

Discussion of Security Issues (Closed—Ex. 1).

Week of November 3, 2003—Tentative

There are no meetings scheduled for the Week of November 3, 2003.

Week of November 10, 2003—Tentative

Wednesday, November 12, 2003

2 p.m.

Discussion of Intergovernmental Issues (Closed—Ex. 9).

Week of November 17, 2003—Tentative

Thursday, November 20, 2003

12:45 p.m.

Briefing on Threat Environment Assessment (Closed—Ex. 1).

Week of November 24, 2003—Tentative

There are no meetings scheduled for the Week of November 24, 2003.

Week of December 1, 2003—Tentative

There are no meetings scheduled for the Week of December 1, 2003.

The schedule for Commission meetings is subject to change on short notice. To verify the status of meetings call (recording)—(301) 415-1292. Contact person for more information: David Louis Gamberoni (301) 415-1651.

Additional Information

By a vote of 3-0 on October 17 and 20, the Commission determined pursuant to U.S.C. 552b(e) and § 9.107(a) of the Commission's rules that “Affirmation of Fansteel, Inc. (Muskogee, Oklahoma, Site), Docket No. 40-7580-LT. State of Oklahoma's Request for Hearing and Terminating the Adjudicatory Proceeding” be held on October 23, and on less than one week's notice to the public.

By a vote of 3-0 on October 22, the Commission determined pursuant to U.S.C. 552b(e) and § 9.107(a) of the Commission's rules that “Affirmation of Dominion Nuclear Connecticut, Inc. (Millstone Nuclear Power Station, Unit 2)” be held on October 23, and on less than one week's notice to the public.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 23, 2003.
D.L. Gamberoni,
Technical Coordinator, Office of the Secretary.

[FR Doc. 03-27214 Filed 10-24-03; 10:56 am]

BILLING CODE 7590-01-M